SOCIAL SECURITY ADMINISTRATION

Privacy Act of 1974 as Amended; Computer Matching Program (SSA/Internal Revenue Service (IRS))—Match Number 1305

AGENCY: Social Security Administration (SSA).

ACTION: Notice of a new computer matching program, expected to begin April 1, 2005.

SUMMARY: In accordance with the provisions of the Privacy Act, as amended, this notice announces a computer matching program that SSA plans to conduct with the IRS.

DATES: SSA will file a report of the subject matching program with the Committee on Homeland Security and Governmental Affairs of the Senate, the Committee on Government Reform and Oversight of the House of Representatives, and the Office of Information and Regulatory Affairs, Office of Management and Budget (OMB). The matching program will be effective as indicated below.

ADDRESSES: Interested parties may comment on this notice by either telefax to (410) 965-8582 or writing to the Associate Commissioner, Office of Income Security Programs, 760 Altmeyer Building, 6401 Security Boulevard, Baltimore, MD 21235-6401. All comments received will be available for public inspection at this address.

SUPPLEMENTARY INFORMATION:

A. General

The Computer Matching and Privacy Protection Act of 1988 (Public Law (Pub. L.) 100-503), amended the Privacy Act (5 U.S.C. 552a) by describing the manner in which computer matching involving Federal agencies could be performed and adding certain protections for individuals applying for and receiving Federal benefits. Section 7201 of the Omnibus Budget Reconciliation Act of 1990 (Pub. L. 101-508) further amended the Privacy Act regarding protections for such individuals. The Privacy Act, as amended, regulates the use of computer matching by Federal agencies when records in a system of records are matched with other Federal, State, or local government records.

It requires Federal agencies involved in computer matching programs to:

(1) Negotiate written agreements with the other agency or agencies participating in the matching programs;

(2) Obtain the Data Integrity Boards' approval of the match agreements;

(3) Publish notice of the computer matching program in the Federal Register;

(4) Furnish detailed reports about matching programs to Congress and OMB;

(5) Notify applicants and beneficiaries that their records are subject to matching; and

(6) Verify match findings before reducing, suspending, terminating, or denying an individual's benefits or payments.

B. SSA Computer Matches Subject to the Privacy Act

We have taken action to ensure that all of SSA's computer matching programs comply with the requirements of the Privacy Act, as amended.

Dated: February 8, 2005.
Martin H. Gerry,
Deputy Commissioner for Disability and Income Security Programs.

Notice of Computer Matching Program, Social Security Administration (SSA) With Internal Revenue Service (IRS)

A. Participating Agencies

SSA and IRS.

B. Purpose of the Matching Program

The purpose of this matching program is to establish conditions under which IRS agrees to disclose to SSA certain tax return information necessary to verify an individual's self-certification of eligibility for prescription drug subsidy assistance under the Medicare Prescription Drug, Improvement and Modernization Act of 2003 (MMA). Pursuant to section 1860D-14 of title I of the MMA (42 U.S.C. 1395w-114), SSA will determine whether the individual is an individual described in section 1860D-14(a) (i.e. an individual with income up to 150 percent of the Federal poverty guidelines).

C. Authority for Conducting the Matching Program

Section 6103(1)(7) of the Internal Revenue Code (26 U.S.C. 6103(1)(7)) authorizes the IRS to disclose return information with respect to unearned income to Federal, State, and local agencies administering certain benefit programs under the Social Security Act.

Section 1860d-14 of title I of the MMA requires the Commissioner of SSA to verify the eligibility of an individual who seeks to be considered as an individual eligible for the prescription drug subsidy under the MMA and who self-certifies his/her income, resources and family size.

D. Categories of Records and Individuals Covered by the Matching Program

SSA will provide the IRS with identifying information with respect to applicants for, and recipients of, the Medicare Part D Prescription Drug Subsidy from the Medicare Part D and Part D Subsidy File system of records, SSA/ORSIS 60-0321, as published at 69 FR 248 (December 28, 2004). IRS will extract tax return information with respect to unearned income from the Information Returns Master File (IRMF), Treasury/IRS 22.061, as published at 66 FR 63797 (December 10, 2001), using the same extract as the Disclosure of Information to Federal, State and local Agencies (DIFSLA) program. SSA will maintain return information provided by the IRS through this match in the Medicare Part D and Part D Subsidy File system of records.

E. Inclusive Dates of the Matching Program

The matching program will become effective no sooner than 40 days after notice of the matching program is sent to Congress and OMB, or 30 days after publication of this notice in the Federal Register, whichever date is later. The matching program will continue for 18 months from the effective date and may be extended for an additional 12 months thereafter, if certain conditions are met.

[FR Doc. 05-3096 Filed 2-17-05; 8:45 am]

BILLING CODE 4191-02-P